Proclamation 10169 of March 31, 2021

National Financial Capability Month, 2021

By the President of the United States of America

A Proclamation

My Administration is working hard to help Americans overcome the financial impact of COVID-19 and the deep-rooted inequities in our society that have greatly limited the economic prosperity of too many Americans. Given the disproportionate impact the pandemic is having on minority and low-income communities, a concerted effort by the Federal Government is necessary for recovery and building back a better economy. Financial education that builds financial capability helps families receive assistance, build resilience, and benefit from a stronger and more equitable economy. April is recognized as National Financial Capability Month to highlight the value of high-quality financial education to improving Americans' financial capability.

The Financial Literacy and Education Commission, a 23-member body of Federal agencies, chaired by the Secretary of the Treasury, was created to coordinate and improve financial education for all Americans. Its members are helping address the financial challenges our country faces as a result of the COVID-19 pandemic. Agencies are reaching American families with critical assistance and information on home mortgage forbearance, student loan repayment relief, unemployment assistance, and economic impact payments. Federal agencies are also alerting the public about scams, bogus investments, and other ways bad actors have tried to take advantage of people during this crisis.

High-quality financial education should build on and respond to people's individual strengths, circumstances, and needs in order to help them work toward their own unique goals. Yet such high-quality financial education has not historically reached all Americans, especially our most underserved low-income and minority communities. This month, all financial educators in Federal, State, local, and Tribal governments, schools, and private sector organizations should recognize the systemic disparities in our society that have acted as barriers to financial well-being for too many families. They should redouble their efforts to better understand and effectively serve historically underserved people and communities, including people of color, low-income individuals, and persons with disabilities.

NOW, THEREFORE, I, JOSEPH R. BIDEN JR., President of the United States of America, by virtue of the authority vested in me by the Constitution and the laws of the United States, do hereby proclaim April 2021 as National Financial Capability Month. I call upon all Americans to observe this month by understanding barriers to financial well-being, and taking action to build their own financial capability and assist others to do so.

IN WITNESS WHEREOF, I have hereunto set my hand this thirty-first day of March, in the year of our Lord two thousand twenty-one, and of the Independence of the United States of America the two hundred and forty-fifth.

[FR Doc. 2021-07169

Filed 4-5-21; 8:45 am]

Billing code 3295-F1-P